DEPARTMENT OF THE INTERIOR

Bureau of Land Management

[LLIDT000000.L11200000.DD0000.241A.00]

Notice of public meeting, Twin Falls District Resource Advisory Council, Idaho

AGENCY: Bureau of Land Management, Interior.

ACTION: Notice of Public Meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will attend a tour as indicated below.

DATES: January 21, 2010. The Twin Falls District RAC meeting will begin at 9 a.m. (MST) and end no later than 4:30 p.m. at the Best Western Sawtooth Inn, Jerome, Idaho, located at 2653 S. Lincoln Ave. The public comment period for the RAC meeting will take place 9:30 a.m. to 10 a.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During this meeting, there will be an orientation presentation, overview of wilderness training, Jarbidge Resource Management Plan Draft discussion, and renewable energy projects discussion. Additional topics may be added and will be included in local media announcements. More information is available at http://www.blm.gov/id/st/en/res/resource_advisory.3.html. RAC meetings are open to the public. For further information about the meeting, please contact Heather Tiel-Nelson, Public Affairs Specialist for the Twin Falls District, BLM at (208) 736-2352

Dated: November 30, 2009.
Bill Baker,
District Manager.

[FR Doc. E9-29051 Filed 12-4-09; 8:45 am]

BILLING CODE 4310-GG-P